ENVIRONMENTAL PROTECTION AGENCY

[FRL-9973-38-OW]

Reopening of Comment Period on the Notice of Availability of the Deepwater Horizon Oil Spill Louisiana Trustee Implementation Group Draft Restoration Plan and Environmental Assessment #2: Provide and Enhance Recreational Opportunities

AGENCY: Environmental Protection Agency (EPA).

ACTION: Notice of availability; reopening of comment period.

SUMMARY: On December 20, 2017, the Environmental Protection Agency (EPA) published a Notice of Availability of the Deepwater Horizon Oil Spill Louisiana Trustee Implementation Group (Louisiana TIG) Draft Restoration Plan and Environmental Assessment #2: Provide and Enhance Recreational Opportunities (Draft RP/EA) and requested comments from the public. The EPA is reopening the comment period on the Notice of Availability of the Draft RP/EA that was scheduled to close on January 19, 2018, until February 2, 2018. The Louisiana TIG will consider public comments received from December 20, 2017, through February 2, 2018. The EPA is making this change to provide the public with additional time to provide comments.

DATES: The public comment period for the Notice of Availability published in the Federal Register on December 20, 2017 (82 FR 60397), is being reopened. Written comments must be received on or before February 2, 2018.

ADDRESSES: Obtaining Documents: You may download the Draft RP/EA at any of the following sites:

• http://www.gulfspillrestoration.noaa.gov

• http://www.la-dwh.com

• https://www.doi.gov/deepwaterhorizon/adminrecord.

Alternatively, you may request a CD of the Draft RP/EA (see FOR FURTHER INFORMATION CONTACT). You may also view the document at any of the public facilities listed at http://www.gulfspillrestoration.noaa.gov.

Submitting Comments: You may submit comments on the Draft RP/EA by one of following methods:

• Via the Web: http://www.gulfspillrestoration.noaa.gov/restoration-areas/louisiana.

• Via U.S. Mail: U.S. Fish and Wildlife Service, P.O. Box 49567, Atlanta, GA 30345; or Louisiana Coastal Protection & Restoration Authority, ATTN: Joann Hicks, P.O. Box 44027, Baton Rouge, LA 70804.

Once submitted, comments cannot be edited or withdrawn. The Louisiana TIG may publish any comment received on the document. Do not submit electronically any information you consider to be Confidential Business Information (CBI) or other information whose disclosure is restricted by statute. Multimedia submissions (audio, video, etc.) must be accompanied by a written comment. The written comment is considered the official comment and should include discussion of all points you wish to make. The Louisiana TIG will generally not consider comments or comment contents located outside of the primary submission (i.e. on the web, cloud, or other file sharing system). Please be aware that your entire comment, including your personal identifying information, will become part of the public record. Please note that mailed comments must be postmarked on or before the comment deadline of 7 days following publication of this notice to be considered.

FOR FURTHER INFORMATION CONTACT:

• Louisiana—Joann Hicks at LATIGPublicComments@la.gov or 225-342-5477.

• EPA—Tim Landers at landers.timothy@epa.gov or 202-566-2231.

SUPPLEMENTARY INFORMATION:

Next Steps

To allow additional time for the public to provide comments, the EPA is reopening the public comment period until February 2, 2018. The public is encouraged to review and comment on the Draft RP/EA. After the public comment period ends, the Louisiana TIG will consider the comments received before issuing a Final RP/EA. A summary of comments received and the Louisiana TIG's responses and any revisions to the document, as appropriate, will be included in the final document.

Authority

The authority for this action is the Oil Pollution Act of 1990 (33 U.S.C. 2701 et seq.), its implementing NRDA regulations found at 15 CFR part 990, and NEPA (42 U.S.C. 4321 et seq.).

Dated: January 19, 2018.
John Goodin,
Acting Director, Office of Wetlands, Oceans and Watersheds, Office of Water.

[FR Doc. 2018-01517 Filed 1-25-18; 8:45 am]

BILLING CODE 6560-50-P